NATIONAL FOUNDATION ON THE ARTS AND THE HUMANITIES

45 CFR Chapter XI, Subchapter E

Institute of Museum and Library Services; Change of Agency Name; Technical Amendments

AGENCY: Institute of Museum and Library Services (IMLS), NFAH.

ACTION: Final rule.

SUMMARY: This final rule updates the Institute of Museum and Library Services' regulations by amending the text to reflect Congress' replacement of the Institute of Museum Services with the Institute of Museum and Library Services under The Museum and Library Services Act of 1996.

DATES: This final rule is effective September 11, 2001.

FOR FURTHER INFORMATION CONTACT: Nancy E. Weiss, General Counsel, Institute of Museum and Library Services, 1100 Pennsylvania Avenue, NW., Washington, DC 20405. Telephone: (202) 606-8536.

SUPPLEMENTARY INFORMATION: The Museum and Library Services Act of 1996 (the “Act”), set forth at 20 U.S.C. 9101 et seq., expanded the functions of the existing Institute of Museum Services to create the Institute of Museum and Library Services. IMLS published a final rule changing the name of the agency's chapter in the Code of Federal Regulation (Dec. 19, 1997, 62 FR 66529). This rule further updates our regulations by eliminating all references to the Institute of Museum Services and replacing those references with the Institute of Museum and Library Services.

The Institute of Museum and Library Services considers this rule to be a technical amendment that is exempt from notice-and-comment under 5 U.S.C. 553(b)(3)(A). This rule is not a significant rule for purposes of Executive Order 12866 and has not been reviewed by the Office of Management and Budget. As required by the Regulatory Flexibility Act, the Institute certifies that these regulatory amendments will not have a significant impact on small business entities.

List of Subjects

45 CFR Part 1180

Government contracts, Grant programs-education; Museums, Non-profit organizations, Reporting and recordkeeping requirements, Sunshine Act.

45 CFR Part 1181

Administrative practice and procedure, Civil Rights, Equal employment opportunity, Federal buildings and facilities, Individuals with disabilities.

45 CFR Part 1183

Accounting, Grant programs, Indians, Intergovernmental relations, Reporting and recordkeeping requirements.

45 CFR Part 1185

Administrative practice and procedure, Drug abuse, Grant programs, Loan programs, Reporting and recordkeeping requirements.

For the reasons stated in the preamble and under the authority of 20 U.S.C. 9101 et seq., the Institute of Museum and Library Services amends 45 CFR, Chapter XI, Subchapter E as follows:

1. In 45 CFR chapter XI, subchapter E, revise all references to “Institute of Museum Services” to read “Institute of Museum and Library Services”; and revise all reference to “IMS” to read “IMLS”.

2. In addition, in the table of sections below, remove the text indicated in the middle column and replace it with the text shown in the right column:

Section | Remove | Add
1180.2 | Museum Services Act | Museum and Library Services Act
1180.4 | Museum Services Act, Title II of the Arts, Humanities, and Cultural Affairs Act of 1976, Public Law 94-462 (20 U.S.C. 961-968) | Museum and Library Services Act, Public Law 104-208 (20 U.S.C. 9101-9176
1180.16(a) | Board | Director
180.20(d) | Museum Services Act | Museum and Library Services Act
1180.20(d) | (20 U.S.C. 965(a)) | (20 U.S.C. 9173(a))
1180.20(g)(2) | Board | Director
1180.78(e)(1) | Director | Director

Dated: September 4, 2001.
Nancy E. Weiss,
Federal Register Officer.

[FR Doc. 01-22679 Filed 9-10-01; 8:45 am]

BILLING CODE 7036-01-M